DEPARTMENT OF HOMELAND SECURITY

Coast Guard

[Docket No. USCG-2021-0830]

National Boating Safety Advisory Committee; Vacancies

AGENCY: Coast Guard, Department of Homeland Security.

ACTION: Request for applications.

SUMMARY: The U.S. Coast Guard is accepting applications to fill two vacancies on the National Boating Safety Advisory Committee (Committee). This Committee advises the Secretary of Homeland Security, via the Commandant of the U.S. Coast Guard, on matters relating to national recreational boating safety.

DATES: Completed applications must reach the U.S. Coast Guard on or before December 19, 2022.

ADDRESSES: Applications must be emailed to Mr. Jeff Decker at NBSAC@uscg.mil with subject line “Application for NBSAC”.

FOR FURTHER INFORMATION CONTACT: Mr. Jeff Decker, Alternate Designated Federal Officer of the National Boating Safety Advisory Committee; telephone 202-372-1507 or email at NBSAC@uscg.mil.

SUPPLEMENTARY INFORMATION: The National Boating Safety Advisory Committee is a Federal advisory committee. The Committee was established on December 4, 2018, by section 601 of the Frank LoBiondo Coast Guard Authorization Act of 2018, Public Law No 115-282, 132 Stat. 4192 (codified, at 46 U.S.C. 15105). The Committee operates under the provisions of the Federal Advisory Committee Act, (5 U.S.C. appendix), and 46 U.S.C. 15109. The National Boating Safety Advisory Committee provides advice, consults with, and make recommendations to the Secretary of Homeland Security, via the Commandant of the U.S. Coast Guard, on matters relating to national recreational boating safety.

The Committee is required to meet at least once a year in accordance with 46 U.S.C. 15109(a). We expect the Committee will hold meetings at least twice a year, but it may meet more frequently.

All members serve at their own expense and receive no salary or other compensation from the Federal Government. Members may be reimbursed for travel and per diem in accordance with Federal Travel Regulations.

As required by 46 U.S.C. 15109(f)(6), if you are appointed as a member of the Committee, your membership term will expire on December 31st of the third full year after the effective date of your appointment. Members serve at the pleasure of the Secretary of Homeland Security and may be removed prior to the end of their term for just cause. In this solicitation for Committee members, we will consider applications for two (2) positions:

• State official responsible for State boating safety programs.

Each member of the Committee serves as a representative and must have particular expertise, knowledge, and experience in matters relating to the function of the Committee, which is to advise the Secretary of Homeland Security on the matters described above.

In order for the Department, to fully leverage broad-ranging experience and education, the National Boating Safety Advisory Committee must be diverse with regard to professional and technical expertise. The Department is committed to pursuing opportunities, consistent with applicable law, to compose a committee that reflects the diversity of the nation's people.

If you are interested in applying to become a member of the Committee, email your application to NBSAC@uscg.mil as provided in the ADDRESS section of this notice. Applications must include: (1) a cover letter expressing interest in an appointment to the National Boating Safety Advisory Committee; (2) a resume detailing the applicant's relevant experience and (3) a brief biography of the applicant. The U.S. Coast Guard will not consider incomplete or late applications.

Dated: November 15, 2022.
Jason D. Neubauer,
Captain, U.S. Coast Guard, Acting Director of Inspections and Compliance.

[FR Doc. 2022-25154 Filed 11-17-22; 8:45 am]

BILLING CODE 9110-04-P